DEPARTMENT OF JUSTICE

Drug Enforcement Administration

[Docket No. DEA-392]

Importer of Controlled Substances Registration: Research Triangle Institute

ACTION: Notice of registration.

SUMMARY: Research Triangle Institute applied to be registered as an importer of certain basic classes of controlled substances. The DEA grants Research Triangle Institute registration as an importer of the controlled substance.

SUPPLEMENTARY INFORMATION: By notice dated July 2, 2014, and published in the Federal Register on July 11, 2014, 79 FR 40160, Research Triangle Institute, Kenneth S. Rehder, Ph.D., Hermann Building East Institute Drive, P.O. Box 12194, Research Triangle Park, North Carolina 27709, applied to be registered as an importer of certain basic classes of controlled substances. No comments or objections were submitted for this notice.

Comments and requests for hearings on applications to import narcotic raw material are not appropriate. 72 FR 3417 (January 25, 2007).

The Drug Enforcement Administration (DEA) has considered the factors in 21 U.S.C. 823, 952(a) and 958(a) and determined that the registration of Research Triangle Institute to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes of controlled substances:

Controlled substance | Schedule
AM-2201 (7201) | I
AM-694 (7694) | I
JWH-018 (7118) | I
JWH-073 (7173) | I
JWH-200 (7200) | I
JWH-250 (6250) | I
JWH-019 (7019) | I
JWH-081(7081) | I
SR-19 and RCS-4 (7104) | I
JWH-122 (7122) | I
JWH-203 (7203) | I
JWH-398 (7398) | I
1-(1-Phenylcyclohexyl)pyrrolidine (7458) | I
1-[1-(2-Thienyl)cyclohexyl]piperidine (7470) | I
1-[1-(2-Thienyl)cyclohexyl]pyrrolidine (7473) | I
1-Methyl-4-phenyl-4-propionoxypiperidine (9661) | I
1-(2-Phenylethyl)-4-phenyl-4-acetoxypiperidine (9663) | I
2-(4-chloro-2,5-dimethoxyphenyl)-N-(2-methoxybenzl) ethanamine (25C-NBOMe) (7537) | I
2-(4-iodo-2,5-dimethoxyphenyl)-N-(2-methoxybenzyl) ethanamine (25I-NBOMe) (7538) | I
2,5-Dimethoxy-4-ethylamphetamine (7399) | I
2,5-Dimethoxyamphetamine (7396) | I
2C-D (7508) | I
2C-E (7509) | I
2C-H (7517) | I
2C-N (7521) | I
2C-P (7524) | I
2C-T-2 (7385) | I
2C-T-7 (7348) | I
2C-I (7518) | I
2C-C (7519) | I
2C-T-4 (7532) | I
3,4,5-Trimethoxyamphetamine (7390) | I
3,4-Methylenedioxyamphetamine (7400) | I
Controlled Substance Schedule 3,4-Methylenedioxymethamphetamine (7405) | I
3,4-Methylenedioxy-N-ethylamphetamine (7404) | I
3-Fluoro-N-methylcathinone (3-FMC) (1233) | I
3-Methylfentanyl (9813) | I
3-Methylthiofentanyl (9833) | I
4-Bromo-2,5-dimethoxyamphetamine (7391) | I
4-Bromo-2,5-dimethoxyphenethylamine (7392) | I
4-Fluoro-N-methylcathinone (4-FMC) (1238) | I
4-Methyl-2,5-dimethoxyamphetamine (7395) | I
4-Methyl-alphapyrrolidinopropiophenone (4-MePPP) (7498) | I
4-Methylaminorex (cis isomer) (1590) | I
4-Methyl-N-ethylcathinone (4-MEC) (1249) | I
4-Methoxyamphetamine (7411) | I
CP-47,497 C8 Homologue (7298) | I
5-Fluoro-PB-22;5F-PB-22 (7225) | I
5-Methoxy-3,4-methylenedioxyamphetamine (7401) | I
5-Methoxy-N-N-dimethyltryptamine (7431) | I
5-Methoxy-N,N-diisopropyltryptamine (7439) | I
AB-FUBINACA (7012) | I
Acetorphine (9319) | I
Acetyl-alpha-methylfentanyl (9815) | I
Acetyldihydrocodeine (9051) | I
Acetylmethadol (9601) | I
ADB-PINACA (7035) | I
Allylprodine (9602) | I
Alphacetylmethadol except levo-alphacetylmethadol (9603) | I
Alpha-ethyltryptamine (7249) | I
Alphameprodine (9604) | I
Alphamethadol (9605) | I
Alpha-methylfentanyl (9814) | I
Alpha-methylthiofentanyl (9832) | I
Alpha-methyltryptamine (7432) | I
alpha-pyrrolidinopentiophenone (α-PVP) (7545) | I
alpha-pyrrolidinobutiophenone (α-PBP) (7546) | I
Aminorex (1585) | I
APINACA and AKB48 (7048) | I
Benzethidine (9606) | I
Benzylmorphine (9052) | I
Betacetylmethadol (9607) | I
Beta-hydroxy-3-methylfentanyl (9831) | I
Beta-hydroxyfentanyl (9830) | I
Betameprodine (9608) | I
Betamethadol (9609) | I
Betaprodine (9611) | I
Bufotenine (7433) | I
Controlled Substance Schedule Butylone (7541) | I
CP-47,497 (5-(1,1-Dimethylheptyl)-2-[(1R,3S)-3-hydroxycyclohexyl-phenol) (7297) | I
Cathinone (1235) | I
Clonitazene (9612) | I
Codeine methylbromide (9070) | I
Codeine-N-Oxide (9053) | I
Cyprenorphine (9054) | I
Desomorphine (9055) | I
Dextromoramide (9613) | I
Diampromide (9615) | I
Diethylthiambutene (9616) | I
Diethyltryptamine (7434) | I
Difenoxin (9168) | I
Dihydromorphine (9145) | I
Dimenoxadol (9617) | I
Dimepheptanol (9618) | I
Dimethylthiambutene (9619) | I
Dimethyltryptamine (7435) | I
Dioxaphetyl butyrate (9621) | I
Dipipanone (9622) | I
Drotebanol (9335) | I
Ethylmethylthiambutene (9623) | I
Etonitazene (9624) | I
Etorphine (except HCl) (9056) | I
Etoxeridine (9625) | I
Fenethylline (1503) | I
Furethidine (9626) | I
Heroin (9200) | I
Hydromorphinol (9301) | I
Hydroxypethidine (9627) | I
Gamma Hydroxybutyric Acid (2010) | I
Ibogaine (7260) | I
Ketobemidone (9628) | I
Levomoramide (9629) | I
Levophenacylmorphan (9631) | I
Lysergic acid diethylamide (7315) | I
MDPV (3,4-Methylenedioxypyrovalerone) (7535) | I
Marihuana (7360) | I
Mecloqualone (2572) | I
Mephedrone (1248) | I
Mescaline (7381) | I
Methaqualone (2565) | I
Methcathinone (1237) | I
Methyldesorphine (9302) | I
Controlled Substance Schedule Methyldihydromorphine (9304) | I
Methylone (3,4-Methylenedioxy-N-methylcathinone) (7540) | I
Morpheridine (9632) | I
Morphine methylbromide (9305) | I
Morphine methylsulfonate (9306) | I
Morphine-N-oxide (9307) | I
Myrophine (9308) | I
N,N-Dimethylamphetamine (1480) | I
N-Benzylpiperazine (7493) | I
N-Ethyl-3-piperidyl benzilate (7482) | I
N-Ethylamphetamine (1475) | I
N-Ethyl-1-phenylcyclohexylamine (7455) | I
N-Hydroxy-3,4-methylenedioxyamphetamine (7402) | I
Naphyrone (1258) | I
Nicocodeine (9309) | I
Nicomorphine (9312) | I
N-Methyl-3-piperidyl benzilate (7484) | I
Noracymethadol (9633) | I
Norlevorphanol (9634) | I
Normethadone (9635) | I
Normorphine (9313) | I
Norpipanone (9636) | I
Para-Fluorofentanyl (9812) | I
Parahexyl (7374) | I
Pentedrone (α-methylaminovalerophenone) (1246) | I
Pentylone (7542) | I
Peyote (7415) | I
Phenadoxone (9637) | I
Phenampromide (9638) | I
Phenomorphan (9647) | I
Phenoperidine (9641) | I
Pholcodine (9314) | I
Piritramide (9642) | I
Proheptazine (9643) | I
Properidine (9644) | I
Propiram (9649) | I
Psilocybin (7437) | I
Psilocyn (7438) | I
PB-22 (Quinolin-8-yl 1-pentyl-1H-indole-3-carboxylate) (7222) | I
Racemoramide (9645) | I
SR-18 and RCS-8 (7008) | I
Tetrahydrocannabinols (7370) | I
Thebacon (9315) | I
Controlled Substance Schedule Thiofentanyl (9835) | I
Tilidine (9750) | I
Trimeperidine (9646) | I
UR-144 (1-Pentyl-1H-indol-3-yl)(2,2,3,3-tetramethylcyclopropyl)methanone (7144) | I
1-Phenylcyclohexylamine (7460) | II
1-Piperidinocyclohexanecarbonitrile (8603) | II
4-Anilino-N-phenethyl-4-piperidine (8333) | II
Alfentanil (9737) | II
Alphaprodine (9010) | II
Amobarbital (2125) | II
Amphetamine (1100) | II
Anileridine (9020) | II
Bezitramide (9800) | II
Carfentanil (9743) | II
Coca Leaves (9040) | II
Cocaine (9041) | II
Codeine (9050) | II
Dextropropoxyphene, bulk (non-dosage forms) (9273) | II
Dihydrocodeine (9120) | II
Dihydroetorphine (9334) | II
Diphenoxylate (9170) | II
Ecgonine (9180) | II
Ethylmorphine (9190) | II
Etorphine HCl (9059) | II
Fentanyl (9801) | II
Glutethimide (2550) | II
Hydrocodone (9193) | II
Hydromorphone (9150) | II
Isomethadone (9226) | II
Levo-alphacetylmethadol (9648) | II
Levomethorphan (9210) | II
Levorphanol (9220) | II
Lisdexamfetamine (1205) | II
Meperidine (9230) | II
Meperidine intermediate-A (9232) | II
Meperidine intermediate-B (9233) | II
Meperidine intermediate-C (9234) | II
Metazocine (9240) | II
Methadone (9250) | II
Methadone intermediate (9254) | II
Methamphetamine (1105) | II
Methylphenidate (1724) | II
Metopon (9260) | II
Moramide-intermediate (9802) | II
Controlled Substance Schedule Morphine (9300) | II
Nabilone (7379) | II
Noroxymorphone (9668) | II
Opium, raw (9600) | II
Opium extracts (9610) | II
Opium fluid extract (9620) | II
Opium tincture (9630) | II
Poppy Straw (9650) | II
Opium, powdered (9639) | II
Oripavine (9330) | II
Poppy Straw Concentrate (9670) | II
Opium, granulated (9640) | II
Oxycodone (9143) | II
Oxymorphone (9652) | II
Pentobarbital (2270) | II
Phenazocine (9715) | II
Phencyclidine (7471) | II
Phenmetrazine (1631) | II
Phenylacetone (8501) | II
Piminodine (9730) | II
Racemethorphan (9732) | II
Racemorphan (9733) | II
Remifentanil (9739) | II
Secobarbital (2315) | II
Sufentanil (9740) | II
Tapentadol (9780) | II
Thebaine (9333) | II

The company plans to import small quantities of the listed controlled substances for the National Institute on Drug Abuse for research activities.

In reference to drug codes 7360 and 7370, the company plans to import a synthetic cannabidiol and a synthetic tetrahydrocannabinol. No other activity for these drug codes are authorized for this registration.

The import of the above-listed basic classes of controlled substances would be granted only for analytical testing and clinical testing. This authorization does not extend to the import of a finished FDA approved or non-approved dosage forms for commercial sale.

Dated: February 11, 2015.
Joseph T. Rannazzisi,
Deputy Assistant Administrator.

[FR Doc. 2015-03487 Filed 2-18-15; 8:45 am]

BILLING CODE 4410-09-P